NATIONAL SCIENCE FOUNDATION

Sunshine Act Meetings

FEDERAL REGISTER CITATION OF PREVIOUS ANNOUNCEMENT: 86 FR 68688, December 23, 2021.

PREVIOUSLY ANNOUNCED TIME AND DATE OF THE MEETING: The National Science Board's Committee on External Engagement teleconference meeting was scheduled for December 8, 2021, from 10:30-11:30 p.m. EST.

CHANGES IN THE MEETING: The new date and time is December 8, 2021, from 10:30-11:30 a.m. EST.

CONTACT PERSON FOR MORE INFORMATION: Chris Blair, 703/292-7000, cblair@nsf.gov.

Chris Blair,
Executive Assistant to the National Science Board Office.

[FR Doc. 2021-26567 Filed 12-3-21; 11:15 am]

BILLING CODE 7555-01-P